DEPARTMENT OF COMMERCE

National Oceanic and Atmospheric Administration

RIN 0648-XG335

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) is sponsoring a meeting via webinar to review a new method proposed to improve catch estimation methods in sparsely sampled mixed stock fisheries. The Methodology Review webinar is a follow-up to a March 28-29, 2018 Methodology Review. The webinar meeting is open to the public.

DATES: The Catch Estimation Methodology Review webinar will be held Tuesday, July 31, 2018, from 8:30 a.m. to 5 p.m. Pacific Daylight Time or until business for the day has been completed.

ADDRESSES: The Catch Estimation Methodology Review meeting will be held by webinar. To attend the webinar, (1) join the meeting by visiting this link https://www.gotomeeting.com/webinar, (2) enter the webinar ID: 531-002-459, and (3) enter your name and email address (required). After logging into the webinar, please (1) dial this TOLL number: 1-914-614-3221 (not a toll-free number); (2) enter the attendee phone audio access code: 953-706-939; and (3) then enter your audio phone pin (shown after joining the webinar). Note: We have disabled mic/speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see the https://www.gotomeeting.com/webinar/ipad-iphone-android-webinar-apps). You may send an email to Mr. Kris Kleinschmidt at Kris.Kleinschmidt@noaa.gov or contact him at (503) 820-2280, extension 411 for technical assistance. A public listening station will also be available at the Pacific Council office.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the Catch Estimation Methodology Review meeting is to review and evaluate a new methodology under development by the National Marine Fisheries Service Southwest Fisheries Science Center (SWFSC) for partitioning landings reported as aggregated categories of fish into species-level estimates of landed catch. The review will focus on short-term requests to the SWFSC team from the March Methodology Review panel.

No management actions will be decided by the Methodology Review panel. The Methodology Review panel's role will be development of recommendations and a report for consideration by the Pacific Council's Scientific and Statistical Committee and the Pacific Council at their September meeting in Seattle, WA.

Although nonemergency issues not contained in the meeting agendas may be discussed, those issues may not be the subject of formal action during this meeting. Action will be restricted to those issues specifically listed in this notice and any issues arising after publication of this notice that require emergency action under Section 305(c) of the Magnuson-Stevens Fishery Conservation and Management Act, provided the public has been notified of the intent of the Methodology Review panel to take final action to address the emergency.

Special Accommodations

This meeting is physically accessible to people with disabilities. Requests for sign language interpretation or other auxiliary aids should be directed to Mr. Kris Kleinschmidt (503) 820-2411 at least 10 days prior to the meeting date.

Dated: July 3, 2018.
Tracey L. Thompson,
Acting Deputy Director, Office of Sustainable Fisheries, National Marine Fisheries Service.

[FR Doc. 2018-14628 Filed 7-6-18; 8:45 am]

BILLING CODE 3510-22-P